DEPARTMENT OF STATE

[Public Notice 5168]

Overseas Security Advisory Council (OSAC) Meeting Notice; Closed Meeting

The Department of State announces a meeting of the U.S. State Department—Overseas Security Advisory Council on November 8, 2005, in Washington, DC. Pursuant to Section 10 (d) of the Federal Advisory Committee Act and 5 U.S.C. 552b [c][4], it has been determined the meeting will be closed to the public. The meeting will involve the discussion and examination of corporate policies and procedures involving proprietary commercial and financial information that is considered privileged and confidential. The agenda will include updated committee reports, a global threat overview, and other matters relating to private sector physical and procedural security policies and protective programs and the protection of U.S. business information overseas.

For more information contact Marsha Thurman, Overseas Security Advisory Council, Department of State, Washington, DC 20522-2008, phone: 571-345-2214.

Dated: October 4, 2005.
Joe D. Morton,
Director of the Diplomatic Security Service, Department of State.

[FR Doc. 05-21727 Filed 10-28-05; 8:45 am]

BILLING CODE 4710-43-P